DEPARTMENT OF COMMERCE

Bureau of Export Administration

National Defense Stockpile Market Impact Committee Request for Public Comments on the Potential Market Impact of Proposed Stockpile Sales of Palladium

AGENCY: U.S. Department of Commerce.

ACTION: Notice of request for public comment on the potential market impact of a proposed increase in the disposal level of palladium from the National Defense Stockpile under the Fiscal Year (FY) 2001 Annual Materials Plan (AMP) and the proposed FY 2002 AMP.

SUMMARY: This notice is to advise the public that the National Defense Stockpile Market Impact Committee (co-chaired by the Departments of Commerce and State) is seeking public comments on the potential market impact of a proposed increase in the disposal of palladium from the National Defense Stockpile under the Fiscal Year (FY) 2001 Annual Materials Plan (AMP) and the proposed FY 2002 AMP.

DATES: Comments must be received by March 22, 2001.

ADDRESSES: Written comments should be sent to Richard V. Meyers, Co-Chair, Stockpile Market Impact Committee, Office of Strategic Industries and Economic Security, Room 3876, Bureau of Export Administration, U.S. Department of Commerce, 14th Street and Constitution Avenue, NW., Washington, DC 20230; FAX: (202) 482-5650; E-Mail: rmeyers@bxa.doc.gov.

FOR FURTHER INFORMATION CONTACT: Richard V. Meyers, Office of Strategic Industries and Economic Security, Bureau of Export Administration, U.S. Department of Commerce, (202) 482-3634; or Terri L. Robl, Office of International Energy and Commodity Policy, U.S. Department of State, (202) 647-3423; co-chairs of the National Defense Stockpile Market Impact Committee.

SUPPLEMENTARY INFORMATION: Under the authority of the Strategic and Critical Materials Stock Piling Act of 1979, as amended, (50 U.S.C. 98 et seq.), the Department of Defense (DOD), as National Defense Stockpile Manager, maintains a stockpile of strategic and critical materials to supply the military, industrial, and essential civilian needs of the United States for national defense. Section 3314 of the Fiscal Year (FY) 1993 National Defense Authorization Act (NDAA) (50 U.S.C. 98h-1) formally established a Market Impact Committee (the Committee) to “advise the National Defense Stockpile Manager on the projected domestic and foreign economic effects of all acquisitions and disposals of materials from the stockpile * * *.” The Committee must also balance market impact concerns with the statutory requirement to protect the Government against avoidable loss.

The Committee is comprised of representatives from the Departments of Commerce, State, Agriculture, Defense, Energy, Interior, Treasury, and the Federal Emergency Management Agency, and is co-chaired by the Departments of Commerce and State. The FY 1993 NDAA also directs the Committee to “consult from time to time with representatives of producers, processors and consumers of the types of materials stored in the stockpile.”

The National Defense Stockpile Administrator has proposed revising both the current FY 2001 Annual Materials Plan (AMP) and the proposed FY 2002 AMP (both AMPs previously approved by Committee) to increase the disposal quantity of palladium from 300,000 tr. oz. to 600,000 tr. oz. The proposed increase will permit additional quantities of palladium to be sold at historically high prices for the material and will also provide a supply of the material into a world market currently experiencing a severe shortage. The Committee is seeking public comment on the potential market impact of this proposed increase.

The quantity of palladium (including the proposed increase) listed in both the FY 2001 and proposed FY 2002 AMPs are not sales target disposal quantities. They are only a statement of the proposed maximum disposal quantity of the material that may be sold in a particular fiscal year. The quantity of material that will actually be offered for sale will depend on the market for the material at the time of the offering as well as on the quantity of the material approved for disposal by Congress.

The Committee requests that interested parties provide written comments, supporting data and documentation, and any other relevant information on the potential market impact of the proposed increased disposal level of palladium. Although comments in response to this Notice must be received by March 22, 2001 to ensure full consideration by the Committee, interested parties are encouraged to submit comments and supporting information at any time thereafter to keep the Committee informed as to the market impact of the sale of palladium. Public comment is an important element of the Committee's market impact review process.

Public comments received will be made available at the Department of Commerce for public inspection and copying. Anyone submitting business confidential information should clearly identify the business confidential portion of the submission and also provide a non-confidential submission that can be placed in the public file. The Committee will seek to protect such information to the extent permitted by law.

The public record concerning this Notice will be maintained in the Bureau of Export Administration's Records Inspection Facility, Room 4525, U.S. Department of Commerce, 14th Street and Constitution Avenue, NW., Washington, DC 20230, telephone (202) 482-5653. The records in this facility may be inspected and copied in accordance with the regulations published in Part 4 of Title 15 of the Code of Federal Regulations (15 CFR 4.1 et seq.).

Information about the inspection and copying of records at the facility may be obtained from Ms. Dawnielle Battle, the Bureau of Export Administration's Freedom of Information Officer, at the above address and telephone number.

Dated: February 13, 2001.
Matthew S. Borman,
Deputy Assistant Secretary, Bureau of Export Administration.

[FR Doc. 01-4114 Filed 2-16-01; 8:45 am]

BILLING CODE 3510-DR-P